DEPARTMENT OF DEFENSE

Office of the Secretary

Federal Advisory Committee; Meeting of the Uniform Formulary Beneficiary Advisory Panel; Correction

AGENCY: Assistant Secretary of Defense (Health Affairs), DoD.

ACTION: Notice of meeting; correction.

SUMMARY: On May 28, 2010, DoD published a notice (75 FR 30003) announcing a meeting of the Defense Science Board Task Force. That notice omitted one agenda item. All other aspects of the meeting agenda remain valid. This notice adds the omitted agenda topic.

FOR FURTHER INFORMATION CONTACT: Lieutenant Colonel Stacia Spridgen, Designated Federal Officer, Uniform Formulary Beneficiary Advisory Panel, 2450 Stanley Road, Suite 208, Ft. Sam Houston, TX 78234-6102; Telephone: (210) 295-1271; Fax: (210) 295-2789; E-mail: Baprequests@Tma.Osd.Mil.

SUPPLEMENTARY INFORMATION: Due to internal DoD difficulties beyond the control of the Uniform Formulary Beneficiary Advisory Panel or its Designated Federal Officer, the Government was unable to process the Federal Register notice for the June 24, 2010, meeting of the Uniform Formulary Beneficiary Advisory Panel as required by 41 CFR 102-3.150(a). Accordingly, the Committee Management Officer for the Department of Defense, pursuant to 41 CFR 102-3.150(b), waives the 15-calendar day notification requirement.

Correction

In the notice (FR Doc. 2010-12867) published on May 28, 2010 (75 FR 30003), make the following correction. On page 30003, in the first column, correct the paragraph under SUPPLEMENTARY INFORMATION, Meeting Agenda, by adding the following agenda topic: “review and comment on Qualaquin PA criteria.”

Dated: June 22, 2010.
Mitchell S. Bryman,
Alternate OSD Federal Register Liaison Officer, Department of Defense.

[FR Doc. 2010-15463 Filed 6-24-10; 8:45 am]

BILLING CODE 5001-06-P